DEPARTMENT OF THE INTERIOR

Fish and Wildlife Service

[FWS-R9-WSR-2012-N015; FVWF941009000007B-XXX-FF09W11000/FVWF51100900000-XXX-FF09W11000]

Proposed Information Collection; Wildlife and Sport Fish Grants and Cooperative Agreements

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on August 31, 2012. We may not conduct or sponsor and a person is not required to respond to a collection of information unless it displays a currently valid OMB control number.

DATES: To ensure that we are able to consider your comments on this IC, we must receive them by March 26, 2012.

ADDRESSES: Send your comments on the IC to the Service Information Collection Clearance Officer, Fish and Wildlife Service, MS 2042-PDM, 4401 North Fairfax Drive, Arlington, VA 22203 (mail); or INFOCOL@fws.gov (email). Please include “1018-0109” in the subject line of your comments.

FOR FURTHER INFORMATION CONTACT: To request additional information about this IC, contact Hope Grey at INFOCOL@fws.gov (email) or (703) 358-2482 (telephone).

SUPPLEMENTARY INFORMATION:

I. Abstract.

The Wildlife and Sport Fish Restoration Program (WSFR), U.S. Fish and Wildlife Service, administers the following financial assistance programs in whole or in part. We award most financial assistance as grants, but cooperative agreements are possible if the Federal Government will be substantially involved in carrying out the project. You can find a description of most programs in the Catalog of Domestic Federal Assistance (CDFA).

CDFA | Program | Authority | Implementing regulations
15.616 | Clean Vessel Act | 33 U.S.C. 1322, 16 U.S.C. 777c | 50 CFR 85.
15.614 | Coastal Wetlands Planning, Protection, and Restoration Act | 16 U.S.C. 3951 et seq | 50 CFR 84.
15.615 | Cooperative Endangered Species Conservation Fund | 16 U.S.C. 1531 et seq., with special reference to section 1535 | 50 CFR 81.
15.626 | Enhanced Hunter Education and Safety | 16 U.S.C. 669 et seq. with special reference to 669h-1 | 50 CFR 80.
15.664 | Fish and Wildlife Coordination and Assistance Programs | 16 U.S.C. 661, 16 U.S.C. 742a, 16 U.S.C. 2901-2911 | None.
15.667 | Highlands Conservation | Highlands Conservation Act (November 30, 2004), Public Law 108-421 | None.
15.633 | Landowner Incentive Program | Annual Appropriations Acts for the Department of the Interior, Environment, and Related Agencies for fiscal years 2003-07. 16 U.S.C. 460l-4—460l-11 | None.
15.628 | Multistate Conservation Grants | 16 U.S.C. 669-669c, 669h-2, 16 U.S.C. 777-777c, 777m | None.
15.653 | National Outreach and Communications | 23 U.S.C. 101, 16 U.S.C. 777g(d) | None.
15.650 | Research Grants (Generic) | 16 U.S.C. 661, 16 U.S.C. 742f(a)(4) | None.
15.649 | Service Training and Technical Assistance (Generic Training) | 16 U.S.C. 661, 16 U.S.C. 742f(a)(4) | None.
15.605 | Sport Fish Restoration | 16 U.S.C. 777 et seq. except 777e-1 and g-1 | 50 CFR 80.
15.622 | Sportfishing and Boating Safety Act (Boating Infrastructure Grants) | 16 U.S.C. 777c, g, and g-1 | 50 CFR 86.
15.634 | State Wildlife Grants | Annual Appropriations Acts for the Department of the Interior, Environment, and Related Agencies for fiscal years 2001-12, 16 U.S.C. 460l-4—460l-11, fiscal years 2002 through 2007 | None.
15.638 archived | Tribal Landowner Incentive Program | Same as the Landowner Incentive Program at CDFA number 15.633 | None.
15.639 | Tribal Wildlife Grants | Same as the State Wildlife Grants Program at CDFA number 15.634 | None.
15.625 archived | Wildlife Conservation and Restoration Program | 16 U.S.C. 669 et seq. with special reference to sections 669-669c | None.
15.611 | Wildlife Restoration | 16 U.S.C. 669 et seq | 50 CFR 80.

To apply for financial assistance funds, you must submit an application that describes in substantial detail project locations, benefits, funding, and other characteristics. Materials to assist applicants in formulating project proposals are available on Grants.gov. We use the application to determine:

• Eligibility of the grant.

• Scale of resource values or relative worth of the project.

• Effect of the project on environmental and cultural resources.

• How well the proposed project will meet the purposes of the program's establishing legislation.

Persons or entities receiving grants must submit periodic performance reports that contain information necessary for us to track costs and accomplishments.

II. Data

OMB Control Number: 1018-0109.

Title: Wildlife and Sport Fish Grants and Cooperative Agreements.

Service Form Number: None.

Type of Request: Extension of a currently approved collection.

Description of Respondents: States; the Commonwealths of Puerto Rico and the Northern Mariana Islands; the District of Columbia; the territories of Guam, U.S. Virgin Islands, and American Samoa; federally-recognized tribal governments; institutions of higher education; and nongovernmental organizations.

Respondent's Obligation: Required to obtain or retain a benefit.

Frequency of Collection: We require applications annually for new grants. We require amendments on occasion when key elements of a project change. We require quarterly and final performance reports in the National Outreach and Communication Program and annual and final performance reports in the other programs. We may require more frequent reports under the conditions stated at 43 CFR 12.52 and 43 CFR 12.914.

Activity | Number of respondents | Number of responses | Completion time per response (hours) | Total annual burden hours
Initial Application (project narrative) | 200 | 2,500 | 40 | 100,000
Revision of Award Terms (Amendment) | 150 | 1,500 | 2 | 3,000
Performance Reports | 200 | 3,500 | 6 | 21,000
Totals | 550 | 7,500 |  | 124,000

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: January 18, 2012.
Tina A. Campbell,
Chief, Division of Policy and Directives Management, U.S. Fish and Wildlife Service.

[FR Doc. 2012-1320 Filed 1-23-12; 8:45 am]

BILLING CODE 4310-55-P